ENVIRONMENTAL PROTECTION AGENCY

[ER-FRL-6668-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 1, 2005 (70 FR 16815).

Draft EISs

EIS No. 20050066, ERP No. D-FAA-B40165-MA, New Bedford Regional Airport Improvements Project, To Enhance Aviation Capacity, Air Traffic, Jet Traffic, Air Cargo and General Aviation Traffic, Southeastern Massachusetts Region, City of New Bedford, Bristol County, MA.

Summary: EPA commented on the lack of information to characterize the severity of adverse direct and indirect impacts to wetlands, and encouraged the FAA to consider enhancement of a less damaging runway safety area alternative. The comments also requested a mitigation plan to compensate for unavoidable losses at wetlands.

Rating EO2

EIS No. 20050137, ERP No. D-AFS-B65013-VT, Green Mountain National Forest, Propose Revised Land and Resource Management Plan, Implementation, Forest Plan Revision, Addison, Bennington, Rutland, Washington, Windham and Windsor Counties, VT.

Summary: EPA has no objections to the proposed project, but supports alternatives C, D or E as those that best address resource protection.

Rating LO

EIS No. 20050226, ERP No. D-FHW-B40095-RI, U.S. Route 6/Route 10 Interchange Improvement Project, To Identify Transportation Alternative, Funding, City of Providence, Providence County, RI.

Summary: EPA has environmental concerns about the impacts to water and air quality as well as environmental justice issues.

Rating EC2

EIS No. 20050247, ERP No. D-SFW-K64025-AZ, Cabeza Prieta National Wildlife Refuge, Comprehensive Conservation Plan, Wilderness Stewardship Plan, Implementation, Ajo, AZ.

Summary: EPA has no objection to the proposed project.

Rating LO

EIS No. 20050256, ERP No. D-AFS-J65446-MT, Beaverhead-Deerlodge National Forest Draft Revised Land and Resource Management Plan, Implementation, Beaverhead, Butte-Silver Bow, Deerlodge, Granite, Jefferson, Madison Counties, MT.

Summary: EPA generally supports the forestwide aquatic strategy, watershed restoration and revised management practices. However, EPA expressed environmental concerns about continued impacts to water quality, the level of watershed protection and restoration, management direction for roads and other resources, and environmental protection management measures.

Rating EC2

EIS No. 20050301, ERP No. D-FAA-A12043-00, PROGRAMMATIC—Horizontal Launch and Reentry of Reentry Vehicles, Facilitate the Issuance of Licenses in United States.

Summary: EPA has no objection to the proposed action.

Rating LO

EIS No. 20050315, ERP No. D-AFS-J65449-UT, Fishlake National Forest Off-Highway Vehicle Route Designation Project, Proposes to Designate a System of Motorized Road, Trails, and Areas to Revise and Update the Existing Motorized Travel Plan, UT.

Summary: EPA expressed environmental concerns about the preferred alternative because of potential adverse impacts to source water, streams and water quality, wetlands and aquatic resources. EPA supports the transition from unmanaged motorized recreation to restricted travel and suggests the final EIS include specific analyses of the direct, indirect and cumulative impacts of this proposed plan.

Rating EC2

EIS No. 20050240, ERP No. DS-FTA-B54007-WA, Silver Line Phase III (previously known as South Boston Pier) Project, Updated Information to Physically Integrate Silver Line Phase I and II, Massachusetts Bay Transportation Authority's, Funding, MA.

Summary: EPA has no objections to the proposed project.

Rating LO

Final EISs

EIS No. 20050341, ERP No. F-COE-G32058-00, Arkansas River Navigation Study, To Maintain and Improve the Navigation Channel in Order to Enhance Commercial Navigation on the McCellan Kerr Arkansa River Navigation System (MKARNS), Several Counties, AR and Several Counties, OK.

Summary: No formal comment letter was sent to the preparing agency.

Dated: October 4, 2005.
Robert W. Hargrove,
Director, NEPA Compliance Division, Office of Federal Activities.

[FR Doc. 05-20207 Filed 10-6-05; 8:45 am]

BILLING CODE 6560-50-U